DEPARTMENT OF TRANSPORTATION

Federal Aviation Administration

14 CFR Part 39

[Docket No. FAA-2020-0348; Product Identifier 2020-NM-054-AD; Amendment 39-21271; AD 2020-20-15]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A330-202, -203, -223, -223F, -243, -243F, -302, -303, -323, -343, and -941 airplanes; and Model A340-313, -541, and -642 airplanes. This AD was prompted by the results of laboratory tests on non-rechargeable lithium batteries installed in emergency locator transmitters (ELTs), which highlighted a lack of protection against currents of 28 volts DC or 115 volts AC that could lead to thermal runaway and a battery fire. This AD requires modifying a certain ELT by installing a diode between the ELT and the terminal block, as specified in a European Union Aviation Safety Agency (EASA) AD, which is incorporated by reference. The FAA is issuing this AD to address the unsafe condition on these products.

DATES: This AD is effective November 12, 2020.

The Director of the Federal Register approved the incorporation by reference of a certain publication listed in this AD as of November 12, 2020.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0348.

Examining the AD Docket

You may examine the AD docket on the internet at https://www.regulations.gov by searching for and locating Docket No. FAA-2020-0348; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, International Validation Branch, FAA, 2200 South 216th St., Des Moines, WA 98198; telephone and fax 206-231-3229; email vladimir.ulyanov@faa.gov.

SUPPLEMENTARY INFORMATION:

Discussion

The EASA, which is the Technical Agent for the Member States of the European Union, has issued EASA AD 2020-0083, dated April 3, 2020 (“EASA AD 2020-0083”) (also referred to as the Mandatory Continuing Airworthiness Information, or “the MCAI”), to correct an unsafe condition for certain Airbus SAS Model A330-202, -203, -223, -223F, -243, -243F, -302, -303, -323, -343, and -941 airplanes; and Model A340-313, -541, and -642 airplanes.

The FAA issued a notice of proposed rulemaking (NPRM) to amend 14 CFR part 39 by adding an AD that would apply to certain Airbus SAS Model A330-202, -203, -223, -223F, -243, -243F, -302, -303, -323, -343, and -941 airplanes; and Model A340-313, -541, and -642 airplanes. The NPRM published in the Federal Register on May 6, 2020 (85 FR 26896). The NPRM was prompted by the results of laboratory tests on non-rechargeable lithium batteries installed in ELTs, which highlighted a lack of protection against currents of 28 volts DC or 115 volts AC that could lead to thermal runaway and a battery fire. The NPRM proposed to require modifying a certain ELT by installing a diode between the ELT and the terminal block, as specified in EASA AD 2020-0083.

Comments

The FAA gave the public the opportunity to participate in developing this final rule. The following presents the comments received on the NPRM and the FAA's response to each comment.

Request To Allow Any Color and Width of Tape

Delta Air Lines (DAL) requested that operators be allowed to use any color and width of reinforced silicon tape, instead of part number (P/N) ASNA51072503, to protect the wiring in the area where the diode is secured to the harness. The commenter explained that P/N ASNA51072503 is specified in Airbus Service Bulletin A330-25-3733 (“Airbus Service Bulletin A330-25-3733”), and is for the 1-inch orange reinforced silicon tape under the ASNA5107 standard (which is an aerospace industry standard for a silicone rubber tape). The commenter requested approval to use any color and width of reinforced silicon tape meeting the specifications of the broader ASNA5107 standard. The commenter explained that the specified reinforced silicon tape has a shelf-life, and it would be beneficial to operators if they were given the flexibility to use any color and width of reinforced silicon tape if the reinforced silicon tape is needed to be replaced during maintenance.

The FAA does not agree with the commenter's request. The commenter did not provide sufficient justification for the use of any color and width of reinforced silicon tape meeting the specifications of the broader ASNA5107 standard. The FAA is not aware of the airworthiness quality of other reinforced silicon tapes under specification ASNA5107. Furthermore, all self-adhesive tapes under the ASNA5107 standard, and their alternatives, have limited shelf lives. The reinforced silicon tape having P/N ASNA51072503 is included in the parts kit specified in Airbus Service Bulletin A330-25-3733 and will be delivered to operators. Airbus, as the Design Approval Holder (DAH), may authorize using alternate materials, which may be included in revised Airbus service information. Operators may, however, request alternative methods of compliance to use reinforced silicone tape other than P/N ASNA51072503 by following the procedures specified in paragraph (i)(1) of this AD and demonstrating how this alternative addresses the unsafe condition. The FAA has not revised this AD in regard to this issue.

Request To Allow an Alternative Continuity Check

In addition, DAL requested and provided an option to replace Step 3.C.(h) specified in Airbus Service Bulletin A330-25-3733. The commenter explained that Step 3.C.(h) in Airbus Service Bulletin A330-25-3733 requires a continuity test of the modified wiring and provides no specific steps for this test other than referencing Electrical Standard Practices Manual (ESPM) section 20-52-21. The commenter noted that although this ESPM section does provide basic continuity procedures, it fails to provide a procedure for a wire with a diode installed.

The FAA disagrees with the commenter's request. The FAA has determined that the procedures described in ESPM section 20-52-21 provide an adequate method for performing a continuity test using a standard multimeter. When placing the multimeter probes in the correct position, the operator is instructed to refer to the wiring schematic within Airbus Service Bulletin A330-25-3733, which provides the necessary procedures for a wire with a diode installed. In addition, anode/cathode polarization is depicted on the diode's housing. Furthermore, Airbus Service Bulletin A330-25-3733 specifies that after the wiring modification is done, a built-in test equipment (BITE) test of the ELT should be performed. The BITE test is also adequate to reveal an incorrectly installed diode.

In addition, the commenter did not provide justification regarding how its proposed procedure would maintain the airworthiness of the airplane. Operators may, however, request alternative methods of compliance to replace Step 3.C.(h) specified in Airbus Service Bulletin A330-25-3733 by using the procedures described in paragraph (i)(1) of this AD and demonstrating how this alternative addresses the unsafe condition. The FAA has not changed this AD regarding this issue.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2020-0083 describes procedures for modifying a certain ELT by installing a diode between the ELT and the terminal block. This material is reasonably available because the interested parties have access to it through their normal course of business or by the means identified in the ADDRESSES section.

Costs of Compliance

The FAA estimates that this AD affects 12 airplanes of U.S. registry. The FAA estimates the following costs to comply with this AD:

Estimated Costs for Required Actions
Labor cost | Parts cost | Cost per product | Cost on U.S. operators
3 work-hours × $85 per hour = $255 | $460 | $715 | $8,580

According to the manufacturer, some or all of the costs of this AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-20-15 Airbus SAS: Amendment 39-21271; Docket No. FAA-2020-0348; Product Identifier 2020-NM-054-AD.

(a) Effective Date

This AD is effective November 12, 2020.

(b) Affected ADs

None.

(c) Applicability

This AD applies to the Airbus SAS airplanes specified in paragraphs (c)(1) through (7) of this AD, certificated in any category, as identified in European Union Aviation Safety Agency (EASA) AD 2020-0083, dated April 3, 2020 (“EASA AD 2020-0083”).

(1) Model A330-202, -203, -223, and -243 airplanes.

(2) Model A330-223F and -243F airplanes.

(3) Model A330-302, -303, -323, and -343 airplanes.

(4) Model A330-941 airplanes.

(5) Model A340-313 airplanes.

(6) Model A340-541 airplanes.

(7) Model A340-642 airplanes.

(d) Subject

Air Transport Association (ATA) of America Code 25, Equipment/Furnishings.

(e) Reason

This AD was prompted by the results of laboratory tests on non-rechargeable lithium batteries installed in emergency locator transmitters (ELTs), which highlighted a lack of protection against currents of 28 volts DC or 115 volts AC that could lead to thermal runaway and a battery fire. The FAA is issuing this AD to address local (temporary) fires in non-rechargeable lithium batteries installed in ELTs, which could result in damage to the airplane and injury to occupants.

(f) Compliance

Comply with this AD within the compliance times specified, unless already done.

(g) Requirements

Except as specified in paragraph (h) of this AD: Comply with all required actions and compliance times specified in, and in accordance with, EASA AD 2020-0083.

(h) Exceptions to EASA AD 2020-0083

(1) Where EASA AD 2020-0083 refers to its effective date, this AD requires using the effective date of this AD.

(2) The “Remarks” section of EASA AD 2020-0083 does not apply to this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0083 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Vladimir Ulyanov, Aerospace Engineer, Large Aircraft Section, International Validation Branch, FAA, 2200 South 216th St., Des Moines, WA 98198; telephone and fax 206-231-3229; email vladimir.ulyanov@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0083, dated April 3, 2020.

(ii) [Reserved]

(3) For information about EASA AD 2020-0083, contact the EASA, Konrad-Adenauer-Ufer 3, 50668 Cologne, Germany; telephone +49 221 8999 000; email ADs@easa.europa.eu; Internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0348.

(5) You may view this material that is incorporated by reference at the National Archives and Records Administration (NARA). For information on the availability of this material at NARA, email fedreg.legal@nara.gov, or go to: https://www.archives.gov/federal-register/cfr/ibr-locations.html.

Issued on September 24, 2020.
Gaetano A. Sciortino,
Deputy Director for Strategic Initiatives, Compliance & Airworthiness Division, Aircraft Certification Service.

[FR Doc. 2020-22235 Filed 10-7-20; 8:45 am]

BILLING CODE 4910-13-P